INTERNATIONAL TRADE COMMISSION

[Investigations Nos. 701-TA-269-270 (Review) and 731-TA-311-317 and 379-380 (Review)]

Brass Sheet and Strip from Brazil, Canada, France, Germany, Italy, Japan, Korea, the Netherlands, and Sweden ¹

¹ The investigation numbers are as follows: Brazil is 701-TA-269 (Review) and 731-TA-311 (Review), Canada is 731-TA-312 (Review), France is 701-TA-270 (Review) and 731-TA-313 (Review), Germany is 731-TA-317 (Review), Italy is 731-TA-314 (Review), Japan is 731-TA-379 (Review), Korea is 731-TA-315 (Review), the Netherlands is 731-TA-380 (Review), and Sweden is 731-TA-316 (Review).

Determinations

On the basis of the record ² developed in the subject five-year reviews, the United States International Trade Commission determines, pursuant to section 751(c) of the Tariff Act of 1930 (19 U.S.C. 1675(c)) (the Act), that revocation of the countervailing duty orders on brass sheet and strip from Brazil and France, and the antidumping duty orders on brass sheet and strip from Brazil, Canada, France, Germany, Italy, and Japan, would be likely to lead to continuation or recurrence of material injury to an industry in the United States within a reasonably foreseeable time.³ The Commission further determines that revocation of the antidumping duty orders on brass sheet and strip from Korea, the Netherlands, and Sweden would not be likely to lead to continuation or recurrence of material injury to an industry in the United States within a reasonably foreseeable time.⁴

² The record is defined in § 207.2(f) of the Commission's rules of practice and Procedure (19 CFR 207.2(f)).

³ Commissioner Thelma J. Askey dissenting with respect to Brazil and Canada.

⁴ Chairman Lynn M. Bragg dissenting with respect to Korea and the Netherlands and Commissioner Deanna Tanner Okun dissenting with respect to Korea.

Background

The Commission instituted these reviews on February 1, 1999 (64 FR 4892) and determined on May 6, 1999 that it would conduct full reviews (64 FR 27294, May 19, 1999). Notice of the scheduling of the Commission's reviews and of a public hearing to be held in connection therewith was given by posting copies of the notice in the Office of the Secretary, U.S. International Trade Commission, Washington, DC, and by publishing the notice in the Federal Register on July 19, 1999 (64 F.R. 38688). The hearing was held in Washington, DC, on February 10, 2000, and all persons who requested the opportunity were permitted to appear in person or by counsel.

The Commission transmitted its determinations in these reviews to the Secretary of Commerce on April 12, 2000. The views of the Commission are contained in USITC Publication 3290 (April 2000), entitled Brass Sheet and Strip from Brazil, Canada, France, Germany, Italy, Japan, Korea, the Netherlands, and Sweden: Investigations Nos. 701-TA-269 & 270 (Review), and 731-TA-311-317 and 379-380 (Review).

Issued: April 12, 2000.
By order of the Commission.
Donna R. Koehnke,
Secretary.

[FR Doc. 00-9591 Filed 4-17-00; 8:45 am]

BILLING CODE 7020-02-U